NATIONAL FOUNDATION ON THE ARTS AND THE HUMANITIES

Meetings of Humanities Panel

AGENCY: National Endowment for the Humanities.

ACTION: Notice of meetings.

SUMMARY: The National Endowment for the Humanities will hold twenty-three meetings of the Humanities Panel, a federal advisory committee, during April, 2016. The purpose of the meetings is for panel review, discussion, evaluation, and recommendation of applications for financial assistance under the National Foundation on the Arts and Humanities Act of 1965.

DATES: See Supplementary Information section for meeting dates.

ADDRESSES: The meetings will be held at Constitution Center at 400 7th Street SW., Washington, DC 20506. See SUPPLEMENTARY INFORMATION for meeting room numbers.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. DATE: April 1, 2016.

TIME: 8:30 a.m. to 5:00 p.m.

ROOM: Virtual Panel.

This meeting will discuss applications for Next Generation Ph.D.: Planning Grants, submitted to the Office of Challenge Grants.

2. DATE: April 4, 2016.

TIME: 8:30 a.m. to 5:00 p.m.

ROOM: Virtual Panel.

This meeting will discuss applications for Next Generation Ph.D.: Planning Grants, submitted to the Office of Challenge Grants.

3. DATE: April 5, 2016.

TIME: 8:30 a.m. to 5:00 p.m.

ROOM: 4002.

This meeting will discuss applications on the subjects of World Art and Culture, for Museums, Libraries and Cultural Organizations: Planning Grants, submitted to the Division of Public Programs.

4. DATE: April 6, 2016.

TIME: 8:30 a.m. to 5:00 p.m.

ROOM: Via Conference Call.

This meeting will discuss applications on the subjects of U.S. History and Culture, for Museums, Libraries and Cultural Organizations: Planning Grants, submitted to the Division of Public Programs

5. DATE: April 6, 2016.

TIME: 8:30 a.m. to 5:00 p.m.

ROOM: Virtual Panel.

This meeting will discuss applications for Next Generation Ph.D.: Planning Grants, submitted to the Office of Challenge Grants.

6. DATE: April 7, 2016.

TIME: 8:30 a.m. to 5:00 p.m.

ROOM: 4002.

This meeting will discuss applications on the subjects of History and Culture, for Media Projects: Production Grants, submitted to the Division of Public Programs.

7. DATE: April 7, 2016.

TIME: 8:30 a.m. to 5:00 p.m.

ROOM: Virtual Panel.

This meeting will discuss applications for the National Digital Newspaper Program, submitted to the Division of Preservation and Access.

8. DATE: April 11, 2016.

TIME: 8:30 a.m. to 5:00 p.m.

ROOM: Via Conference Call.

This meeting will discuss applications on the subject of Cultural History, for Media Projects: Development Grants, submitted to the Division of Public Programs.

9. DATE: April 12, 2016.

TIME: 8:30 a.m. to 5:00 p.m.

ROOM: Virtual Panel.

This meeting will discuss applications for the Seminars for School Teachers grant program, submitted to the Division of Education Programs.

10. DATE: April 13, 2016.

TIME: 8:30 a.m. to 5:00 p.m.

ROOM: Virtual Panel.

This meeting will discuss applications for the Institutes for School Teachers grant program, submitted to the Division of Education Programs.

11. DATE: April 14, 2016.

TIME: 8:30 a.m. to 5:00 p.m.

ROOM: Virtual Panel.

This meeting will discuss applications for the Seminars for School Teachers grant program, submitted to the Division of Education Programs.

12. DATE: April 15, 2016.

TIME: 8:30 a.m. to 5:00 p.m.

ROOM: Virtual Panel.

This meeting will discuss applications for the Institutes for School Teachers grant program, submitted to the Division of Education Programs.

13. DATE: April 18, 2016.

TIME: 8:30 a.m. to 5:00 p.m.

ROOM: Virtual Panel.

This meeting will discuss applications for the Landmarks of American History and Culture: Workshops for School Teachers grant program, submitted to the Division of Education Programs.

14. DATE: April 19, 2016.

TIME: 8:30 a.m. to 5:00 p.m.

ROOM: Virtual Panel.

This meeting will discuss applications for the Landmarks of American History and Culture: Workshops for School Teachers grant program, submitted to the Division of Education Programs.

15. DATE: April 19, 2016.

TIME: 8:30 a.m. to 5:00 p.m.

ROOM: Via Conference Call.

This meeting will discuss applications on the subject of History, for Media Projects: Development Grants, submitted to the Division of Public Programs.

16. DATE: April 20, 2016.

TIME: 8:30 a.m. to 5:00 p.m.

ROOM: Via Conference Call.

This meeting will discuss applications on the subjects of History and Culture for Museums, Libraries, and Cultural Organizations: Planning Grants, submitted to the Division of Public Programs.

17. DATE: April 20, 2016.

TIME: 8:30 a.m. to 5:00 p.m.

ROOM: Virtual Panel.

This meeting will discuss applications for the Landmarks of American History and Culture: Workshops for School Teachers grant program, submitted to the Division of Education Programs.

18. DATE: April 21, 2016.

TIME: 8:30 a.m. to 5:00 p.m.

ROOM: Virtual Panel.

This meeting will discuss applications for the Landmarks of American History and Culture: Workshops for School Teachers grant program, submitted to the Division of Education Programs.

19. DATE: April 25, 2016.

TIME: 8:30 a.m. to 5:00 p.m.

ROOM: 2002.

This meeting will discuss applications on the subject of Geospatial and Visualization, for Digital Humanities Implementation Grants, submitted to the Office of Digital Humanities.

20. DATE: April 25, 2016.

TIME: 8:30 a.m. to 5:00 p.m.

ROOM: Via Conference Call.

This meeting will discuss applications on the subjects of U.S. History and Culture, for Museums, Libraries, and Cultural Organizations: Planning Grants, submitted to the Division of Public Programs.

21. DATE: April 26, 2016.

TIME: 8:30 a.m. to 5:00 p.m.

ROOM: P002.

This meeting will discuss applications for the Institutes for College and University Teachers grant program, submitted to the Division of Education Programs.

22. DATE: April 27, 2016.

TIME: 8:30 a.m. to 5:00 p.m.

ROOM: P002.

This meeting will discuss applications for the Institutes for College and University Teachers grant program, submitted to the Division of Education Programs.

23. DATE: April 27, 2016.

TIME: 8:30 a.m. to 5:00 p.m.

ROOM: 2002.

This meeting will discuss applications on the subject of Research, for Digital Humanities Implementation Grants, submitted to the Office of Digital Humanities.

24. DATE: April 28, 2016.

TIME: 8:30 a.m. to 5:00 p.m.

ROOM: 2002.

This meeting will discuss applications on the subjects of Public Programs and Education, for Digital Humanities Implementation Grants, submitted to the Office of Digital Humanities.

25. DATE: April 28, 2016.

TIME: 8:30 a.m. to 5:00 p.m.

ROOM: P002.

This meeting will discuss applications for the Seminars for College Teachers grant program, submitted to the Division of Education Programs.

26. DATE: April 29, 2016.

TIME: 8:30 a.m. to 5:00 p.m.

ROOM: 2002.

This meeting will discuss applications on the subjects of Scholarly Communications and Collections, for Digital Humanities Implementation Grants, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: March 10, 2016.
Elizabeth Voyatzis,
Committee Management Officer.

[FR Doc. 2016-05805 Filed 3-14-16; 8:45 am]

BILLING CODE 7536-01-P